DEPARTMENT OF TRANSPORTATION

Federal Aviation Administration

14 CFR Part 71

[Docket No. FAA-2024-2352; Airspace Docket No. 24-AEA-4]

RIN 2120-AA66

Establishment of United States Area Navigation Route Q-161 and Amendment of United States Area Navigation Routes Q-97, Q-133, Q-437, Q-439, Q-445, and Q-481; Eastern United States

AGENCY: Federal Aviation Administration (FAA), DOT.

ACTION: Final rule.

SUMMARY: This action establishes United States Area Navigation (RNAV) Route Q-161 and amends RNAV Routes Q-97, Q-133, Q-409, Q-437, Q-439, Q-445, and Q-481 in the eastern United States. This action supports the Northeast Corridor Atlantic Coast Route (NEC ACR) Optimization Project to improve the efficiency of the National Airspace System (NAS).

DATES: Effective date 0901 UTC, June 12, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the NAS.

History

The FAA published a NPRM for Docket No. FAA 2024-2352 in the Federal Register (89 FR 85455; October 28, 2024), proposing to establish RNAV Route Q-161 and amend RNAV Routes Q-97, Q-133, Q-437, Q-439, Q-445, and Q-481 in the eastern United States. Additionally, The FAA published a supplemental NPRM for Docket No. FAA 2024-2352 in the Federal Register (89 FR 103717; December 19, 2024), adding to the proposal the amendment of RNAV Route Q-409 and the correction to the state designation of the OYVAY, DE, waypoint (WP). Interested parties were invited to participate in these rulemaking efforts by submitting written comments on each proposal to the FAA. No comments were received.

Incorporation by Reference

United States Area Navigation routes (Q-routes) are published in paragraph 2006 of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by establishing RNAV Route Q-161 and amending RNAV Routes Q-97, Q-133, Q-409, Q-437, Q-439, Q-445, and Q-481 in the eastern United States. This action supports the NEC ACR Optimization Project to improve the efficiency of the NAS. The amendments are described below.

In place of a two-letter state abbreviation for multiple listed route points in route descriptions the “OA” means “Offshore Atlantic”.

Q-97: Prior to this final rule, Q-97 extended between the TOVAR, FL, WP and the Presque Isle, ME (PQI), Very High Frequency Omnidirectional Range/Distance Measuring Equipment (VOR/DME). The FAA removes the BYSEL, MD, WP from the route description as it is a turn of less than one degree. Additionally, the FAA adds six route points between the ZJAAY, MD, WP and the Calverton, NY (CCC), VOR/DME. The route points added are the PAJET, DE, WP; CAANO, DE, WP; TBONN, OA, WP; ZIZZI, NJ, WP; YAZUU, NJ, WP; and HEADI, NJ, WP. The route modification moves RNAV Route Q-97 to the east to eliminate traffic conflicts between aircraft flying southbound on RNAV Route Q-97 and aircraft flying northbound on RNAV Route Q-439 descending into the New York and Connecticut areas. As amended, the route continues to extend between the TOVAR WP and the Presque Isle VOR/DME.

Q-133: Prior to this final rule, Q-133 extended between the CHIEZ, NC, WP and the PONCT, NY, WP. The FAA removes the airway segments between the CHIEZ WP and the CONFR, MD, WP and replace them with the airway segment between the JAMIE, VA, Fix and the CONFR WP. The route segment between the CHIEZ WP and the KALDA, VA, WP is still needed for navigation, and this action continues to provide this RNAV connectivity to the KALDA WP as new RNAV Route Q-161 also in this action. Additionally, the FAA removes the airway segment between the Kennedy, NY (JFK), VOR/DME and the PONCT WP and replaces it with the airway segments between the Kennedy VOR/DME and the PBERG, NY, WP. These changes improve the connectivity of multiple airports along the east coast of the United States to the Montreal-Trudeau Airport, Canada, where the preferred arrival route is over the PBERG WP. As amended, the route extends between the JAMIE Fix and the PBERG WP.

Q-161: Q-161 is a new RNAV route that extends between the CHIEZ, NC, WP and the KALDA, VA, WP. This new RNAV route overlays a portion of RNAV Route Q-133, also amended in this action, and provides additional efficiency by becoming its own distinct route. The new proposed route provides RNAV connectivity between the CHIEZ WP and the KALDA WP.

Q-409: Prior to this final rule, Q-409 extended between the ENEME, GA, WP and the WHITE, NJ, Fix. The FAA changes the geographic coordinates of the OYVAY, DE, WP from “lat. 39°02′18.85″ N, long. 075°26′18.04″ W” to “lat. 39°01′03.58″ N, long. 075°26′28.07″ W” in the route description. Additionally, the FAA removes the SESUE, SC, WP and the CRPLR, VA, WP from the route description as they are a turn of less than one degree. Lastly, the FAA updates the geographic coordinates for the VILLS, NJ, WP to match the geographic coordinates listed in the NASR database. The VILLS WP geographic coordinates are changed from “lat. 39°18′03.87″ N, long. 075°06′37.89″ W” to “lat. 39°18′03.87″ N, long. 075°06′37.90″ W”. As amended, the route continues to extend between the ENEME WP and the WHITE Fix.

Q-437: Prior to this final rule, Q-437 extended between the VILLS, NJ, WP and the LLUND, NY, WP. The FAA removes the airway segments between the VILLS WP and the LLUND WP and replaces them with the airway segments between the CRPLR, VA, WP and the PONCT, NY, WP due to high traffic density over the New York City area. These changes move aircraft from being directly over New York City to an area west of Newark, NJ. Additionally, these changes expand RNAV connectivity further to the south to the Norfolk, VA area, and further to the north to the Albany, NY area. As amended, the route extends between the CRPLR WP and the PONCT WP.

Q-439: Prior to this final rule, Q-439 extended between the HOWYU, DE, WP and the Presque Isle, ME (PQI), VOR/DME. The FAA removes the airway segments between the HOWYU WP and the MANTA, NJ, Fix and replaces them with the airway segments between the KALDA, VA, WP and the MANTA Fix due to a need to separate aircraft arriving to the John F. Kennedy International Airport, NY from aircraft arriving to other airports in the New York City area. As amended, the route extends between the KALDA WP and the Presque Isle VOR/DME.

Q-445: Prior to this final rule, Q-445 extended between the SHAUP, OA, WP and the KYSKY, NY, WP. The FAA extends RNAV Route Q-445 to the south between the KALDA, VA, WP and the SHAUP WP. The route extension provides RNAV connectivity from the KALDA WP to the eastern Massachusetts area. As amended, the route extends between the KALDA WP and the KYSKY WP.

Q-481: Prior to this final rule, Q-481 extended between the CONFR, MD, WP and the Deer Park, NY (DPK), VOR/DME. The FAA extends RNAV Route Q-481 to the south between the JAMIE, VA, WP and the CONFR WP; and removes the LEEAH, NJ, Fix from the route and replaces it with the SOSBY, OA, WP and the ECOIL, OA, WP. These route modifications are necessary to ensure adequate separation with other parallel RNAV routes in the Atlantic City, NJ area. As amended, the route extends between the JAMIE WP and the Deer Park VOR/DME.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of establishing United States Area Navigation (RNAV) Route Q-161 and amending RNAV Routes Q-97, Q-133, Q-409, Q-437, Q-439, Q-445, and Q-481 qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2006 United States Area Navigation Routes.

* * * * *

Q-97 TOVAR, FL to Presque Isle, ME (PQI) [Amended]
TOVAR, FL | WP | (Lat. 26°33′05.09″ N, long. 080°02′19.75″ W)
MALET, FL | FIX | (Lat. 28°41′29.90″ N, long. 080°52′04.30″ W)
DEBRL, FL | WP | (Lat. 29°17′48.73″ N, long. 081°08′02.88″ W)
KENLL, FL | WP | (Lat. 29°34′28.35″ N, long. 081°07′25.26″ W)
PRMUS, FL | WP | (Lat. 29°49′05.67″ N, long. 081°07′20.74″ W)
WOPNR, OA | WP | (Lat. 30°37′36.03″ N, long. 081°04′26.44″ W)
JEVED, GA | WP | (Lat. 31°15′02.60″ N, long. 081°03′40.14″ W)
CAKET, SC | WP | (Lat. 32°31′08.63″ N, long. 080°16′09.21″ W)
ELLDE, NC | WP | (Lat. 34°24′14.57″ N, long. 078°41′50.60″ W)
PAACK, NC | WP | (Lat. 35°55′40.26″ N, long. 077°15′30.99″ W)
SAWED, VA | WP | (Lat. 37°32′00.73″ N, long. 075°51′29.10″ W)
KALDA, VA | WP | (Lat. 37°50′31.06″ N, long. 075°37′35.34″ W)
ZJAAY, MD | WP | (Lat. 38°03′09.95″ N, long. 075°26′34.27″ W)
PAJET, DE | WP | (Lat. 38°28′04.13″ N, long. 075°03′00.55″ W)
CAANO, DE | WP | (Lat. 38°31′46.37″ N, long. 074°58′52.32″ W)
TBONN, OA | WP | (Lat. 38°45′02.83″ N, long. 074°45′03.77″ W)
ZIZZI, NJ | WP | (Lat. 38°56′26.46″ N, long. 074°31′44.28″ W)
YAZUU, NJ | WP | (Lat. 39°24′44.82″ N, long. 074°01′01.55″ W)
HEADI, NJ | WP | (Lat. 39°57′49.56″ N, long. 073°43′28.85″ W)
Calverton, NY (CCC) | VOR/DME | (Lat. 40°55′46.63″ N, long. 072°47′55.89″ W)
NTMEG, CT | WP | (Lat. 41°16′30.75″ N, long. 072°28′52.08″ W)
VENTE, MA | WP | (Lat. 42°08′24.33″ N, long. 071°53′38.08″ W)
BLENO, NH | WP | (Lat. 42°54′55.00″ N, long. 071°04′43.37″ W)
FRIAR, ME | FIX | (Lat. 44°26′28.93″ N, long. 069°53′04.38″ W)
Presque Isle, ME (PQI) | VOR/DME | (Lat. 46°46′27.07″ N, long. 068°05′40.37″ W)

* * * * *

Q-133 JAMIE, VA to PBERG, NY [Amended]
JAMIE, VA | FIX | (Lat. 37°36′20.58″ N, long. 075°57′48.81″ W)
CONFR, MD | WP | (Lat. 38°16′10.90″ N, long. 075°24′32.98″ W)
MGERK, DE | WP | (Lat. 38°46′16.00″ N, long. 075°18′09.00″ W)
LEEAH, NJ | FIX | (Lat. 39°15′39.27″ N, long. 074°57′11.01″ W)
MYRCA, NJ | WP | (Lat. 40°20′42.97″ N, long. 073°56′58.07″ W)
Kennedy, NY (JFK) | VOR/DME | (Lat. 40°37′58.38″ N, long. 073°46′17.01″ W)
BIZEX, NY | WP | (Lat. 41°17′02.86″ N, long. 073°34′50.20″ W)
Cambridge, NY (CAM) | VOR/DME | (Lat. 42°59′39.44″ N, long. 073°20′38.47″ W)
PBERG, NY | WP | (Lat. 44°42′06.25″ N, long. 073°31′22.18″ W)

* * * * *

Q-161 CHIEZ, NC to KALDA, VA [New]
CHIEZ, NC | WP | (Lat. 34°31′05.93″ N, long. 077°32′25.74″ W)
KOOKI, NC | WP | (Lat. 35°54′21.71″ N, long. 076°41′56.22″ W)
PYSTN, VA | WP | (Lat. 37°05′19.78″ N, long. 075°53′22.19″ W)
KALDA, VA | WP | (Lat. 37°50′31.06″ N, long. 075°37′35.34″ W)

* * * * *

Q-409 ENEME, GA to WHITE, NJ [Amended]
ENEME, GA | WP | (Lat. 30°42′12.09″ N, long. 082°26′09.31″ W)
PUPYY, GA | WP | (Lat. 31°24′35.58″ N, long. 081°49′06.19″ W)
ISUZO, GA | WP | (Lat. 31°57′47.85″ N, long. 081°14′14.79″ W)
KONEY, SC | WP | (Lat. 32°17′01.62″ N, long. 081°01′23.79″ W)
OKNEE, SC | WP | (Lat. 34°15′39.92″ N, long. 079°10′40.68″ W)
MRPIT, NC | WP | (Lat. 34°26′05.09″ N, long. 079°01′45.10″ W)
GUILD, NC | WP | (Lat. 36°18′49.56″ N, long. 077°14′59.96″ W)
TRPOD, MD | WP | (Lat. 38°20′20.33″ N, long. 075°32′01.85″ W)
OYVAY, DE | WP | (Lat. 39°01′03.58″ N, long. 075°26′28.07″ W)
VILLS, NJ | WP | (Lat. 39°18′03.87″ N, long. 075°06′37.90″ W)
Coyle, NJ (CYN) | VORTAC | (Lat. 39°49′02.42″ N, long. 074°25′53.85″ W)
WHITE, NJ | FIX | (Lat. 40°00′24.32″ N, long. 074°15′04.61″ W)

* * * * *

Q-437 CRPLR, VA to PONCT, NY [Amended]
CRPLR, VA | WP | (Lat. 37°36′24.01″ N, long. 076°09′57.67″ W)
TRPOD, MD | WP | (Lat. 38°20′20.33″ N, long. 075°32′01.85″ W)
OYVAY, DE | WP | (Lat. 39°01′03.58″ N, long. 075°26′28.07″ W)
VILLS, NJ | WP | (Lat. 39°18′03.87″ N, long. 075°06′37.90″ W)
SIZZR, NJ | WP | (Lat. 39°33′57.22″ N, long. 074°53′58.83″ W)
METRO, NJ | WP | (Lat. 40°25′21.77″ N, long. 074°40′10.30″ W)
CLAUS, NJ | WP | (Lat. 40°48′50.07″ N, long. 074°10′08.96″ W)
GANDE, NY | WP | (Lat. 41°30′36.66″ N, long. 073°48′52.03″ W)
PONCT, NY | WP | (Lat. 42°44′48.83″ N, long. 073°48′48.07″ W)

* * * * *

Q-439 KALDA, VA to Presque Isle, ME (PQI) [Amended]
KALDA, VA | WP | (Lat. 37°50′31.06″ N, long. 075°37′35.34″ W)
ZJAAY, MD | WP | (Lat. 38°03′09.95″ N, long. 075°26′34.27″ W)
BYSEL, MD | WP | (Lat. 38°15′02.70″ N, long. 075°16′52.87″ W)
RADDS, DE | FIX | (Lat. 38°38′54.80″ N, long. 075°05′18.48″ W)
SHHAY, DE | WP | (Lat. 38°47′04.08″ N, long. 074°55′55.42″ W)
BRIGS, NJ | FIX | (Lat. 39°31′24.72″ N, long. 074°08′19.67″ W)
MANTA, NJ | FIX | (Lat. 39°54′07.01″ N, long. 073°32′31.63″ W)
SARDI, NY | FIX | (Lat. 40°31′26.61″ N, long. 072°47′55.87″ W)
RIFLE, NY | WP | (Lat. 40°41′24.18″ N, long. 072°34′54.89″ W)
FOXWD, CT | WP | (Lat. 41°48′21.66″ N, long. 071°48′07.03″ W)
BOGRT, MA | WP | (Lat. 42°13′56.08″ N, long. 071°31′07.37″ W)
BLENO, NH | WP | (Lat. 42°54′55.00″ N, long. 071°04′43.37″ W)
BEEKN, ME | WP | (Lat. 43°20′51.95″ N, long. 070°44′50.28″ W)
Presque Isle, ME (PQI) | VOR/DME | (Lat. 46°46′27.07″ N, long. 068°05′40.37″ W)

* * * * *

Q-445 KALDA, VA to KYSKY, NY [Amended]
KALDA, VA | WP | (Lat. 37°50′31.06″ N, long. 075°37′35.34″ W)
ZJAAY, MD | WP | (Lat. 38°03′09.95″ N, long. 075°26′34.27″ W)
PAJET, DE | WP | (Lat. 38°28′04.13″ N, long. 075°03′00.55″ W)
CAANO, DE | WP | (Lat. 38°31′46.37″ N, long. 074°58′52.32″ W)
TBONN, OA | WP | (Lat. 38°45′02.83″ N, long. 074°45′03.77″ W)
ZIZZI, NJ | WP | (Lat. 38°56′26.46″ N, long. 074°31′44.28″ W)
YAZUU, NJ | WP | (Lat. 39°24′44.82″ N, long. 074°01′01.55″ W)
SHAUP, OA | WP | (Lat. 39°44′23.91″ N, long. 073°34′33.84″ W)
VALCO, OA | WP | (Lat. 40°05′29.86″ N, long. 073°08′22.91″ W)
KYSKY, NY | WP | (Lat. 40°46′52.75″ N, long. 072°12′21.45″ W)

* * * * *

Q-481 JAMIE, VA to Deer Park, NY (DPK) [Amended]
JAMIE, VA | WP | (Lat. 37°36′20.58″ N, long. 075°57′48.81″ W)
CONFR, MD | WP | (Lat. 38°16′10.90″ N, long. 075°24′32.98″ W)
MGERK, DE | WP | (Lat. 38°46′16.00″ N, long. 075°18′09.00″ W)
SOSBY, OA | WP | (Lat. 39°15′24.74″ N, long. 074°55′30.57″ W)
ECOIL, OA | WP | (Lat. 39°49′58.45″ N, long. 074°14′06.07″ W)
ZIGGI, NJ | FIX | (Lat. 40°03′07.01″ N, long. 074°00′49.34″ W)
Deer Park, NY (DPK) | VOR/DME | (Lat. 40°47′30.30″ N, long. 073°18′13.17″ W)

* * * * *

Issued in Washington, DC, on March 12, 2025.
Brian Eric Konie,
Manager (A), Rules and Regulations Group.

[FR Doc. 2025-04393 Filed 3-19-25; 8:45 am]

BILLING CODE 4910-13-P